INTERNATIONAL TRADE COMMISSION

[Investigation No. 337-TA-1334]

Certain Raised Garden Beds and Components Thereof; Notice of a Commission Determination Not To Review an Initial Determination Amending the Complaint and Notice of Investigation

AGENCY: U.S. International Trade Commission.

ACTION: Notice.

SUMMARY: Notice is hereby given that the U.S. International Trade Commission (“Commission”) has determined not to review an initial determination (“ID”) (Order No. 8) of the presiding administrative law judge (“ALJ”), amending the complaint and notice of investigation to correct a respondent's name.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on October 19, 2022. 87 FR 63527 (Oct. 19, 2022). The complaint, as supplemented and amended, alleges violations of section 337 of the Tariff Act of 1930, as amended, 19 U.S.C. 1337, in the importation into the United States, the sale for importation, or the sale within the United States after importation of certain raised garden beds and components thereof by reason of misappropriation of trade secrets and unfair competition, the threat or effect of which is to destroy or substantially injure a domestic industry. Id. The Commission's notice of investigation named as respondents Huizhou Green Giant Technology Co., Ltd., of Guangdong China; Utopban International Trading Co., Ltd., d/b/a Vegega of Rosemead, CA; Utopban Limited of Hong Kong; The Hydro Source Inc., d/b/a Forever Garden Beds of El Monte, CA; and VegHerb, LLC, d/b/a Frame It All of Cary, NC. Id. The complainant is Vego Garden, Inc. of Houston, TX (“Vego”). Id. The Office of Unfair Import Investigations is participating in the investigation. Id.

On December 13, 2022, the ALJ issued the subject ID, which granted Vego's unopposed motion to amend the complaint and notice of investigation to change the name of respondent The Hydro Source, Inc., d/b/a Forever Garden Beds to Forever Garden. The ID found that the change will not prejudice the rights of any parties to the investigation and reflects the true identity of the respondents involved in this investigation. No petitions for review of the ID were filed.

The Commission has determined not to review the subject ID.

The complaint and notice of investigation are hereby amended as follows: the name of respondent “The Hydro Source Inc., d/b/a Forever Garden Beds” is replaced with “Forever Garden.”

The Commission vote for this determination took place on January 10, 2023.

The authority for the Commission's determination is contained in section 337 of the Tariff Act of 1930, as amended (19 U.S.C. 1337), and in part 210 of the Commission's Rules of Practice and Procedure (19 CFR part 210).

By order of the Commission.
Issued: January 10, 2023.
Katherine Hiner,
Acting Secretary to the Commission.

[FR Doc. 2023-00648 Filed 1-13-23; 8:45 am]

BILLING CODE 7020-02-P